DEPARTMENT OF ENERGY

Federal Energy Regulatory Commission

[Docket No. RP03-42-001]

Distrigas of Massachusetts L.L.C.; Notice of Compliance Filing

November 14, 2002.

Take notice that on November 8, 2002, Distrigas of Massachusetts LLC (DOMAC), tendered for filing in the above-captioned proceeding an errata to its October 24, 2002, filing of a modified Storage Service Agreement by and between DOMAC and Boston Gas Company (Boston Gas) redesignating Third Revised Sheet No. 87 as Fourth Revised Sheet No. 87.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-29427 Filed 11-19-02; 8:45 am]

BILLING CODE 6717-01-P